DEPARTMENT OF THE INTERIOR

National Park Service

Joshua Tree National Park Advisory Commission; Notice of Meeting

Notice is hereby given in accordance with the Federal Advisory Committee Act that a meeting of the Joshua Tree National Park Advisory Commission (Commission) will be held from 10 am (PDT) until 2 pm on Friday, December 1, 2000, at the Black Rock Interagency Fire Center at 9800 Black Rock Canyon Road, Black Rock Campground, in the city of Yucca Valley, California. The Commission will hear reports by the Climbing Committee, the Park Wilderness Steering Committee, the Park Trails Program, the Park Road Construction Project, the Park FY2001 Budget and the Joshua Tree Fund.

The Commission was established by Public Law 103-433, section 107 to advise the Secretary concerning the development and implementation of a new or revised comprehensive management plan Joshua Tree National Park.

Members of the Commission include:
Mr. Chuck Bell | Planner.
Ms. Cyndie Bransford | Recreational Climbing Interest.
Ms. Marie Brashear | Mining Interest.
Mr. Gary Daigneault | Property Owner/Business Interest.
Hon. Kathy Davis | County of San Bernardino.
Mr. John Freter | Property Owner Interest.
Mr. Brian Huse | Conservation.
Mr. Julian McIntyre | Conservation.
Mr. Roger Melanson | Equestrian Interest.
Mr. Ramon Mendoza | Native American Interest.
Ms. Leslie Mouriquand | Planner.
Mr. Richard Russell | All Wheel Drive Vehicle Interest.
Ms. Lynne Shmakoff | Property Owner Interest.
Hon. Roy Wilson | County of Riverside.
Mr. Gilbert Zimmerman | Tourism.

The meeting is open to the public and will be recorded for documentation and transcribed for dissemination. Minutes of the meeting will be available to the public after approval of the full Advisory Commission. For copies, please contact Superintendent, Joshua Tree National Park, 74485 National Park Drive, Twentynine Palms, California 92277 at (760)367-5502.

Dated: October 31, 2000.
Ernest Quintana,
Superintendent.

[FR Doc. 00-28573 Filed 11-6-00; 8:45 am]

BILLING CODE 4310-70-P